DEPARTMENT OF TRANSPORTATION

Federal Motor Carrier Safety Administration

[Docket No. FMCSA-2003-16471]

Notice of Request To Renew Approval of an Information Collection: OMB Control No. 2126-0011 (Commercial Driver Licensing and Test Standards)

AGENCY: Federal Motor Carrier Safety Administration (FMCSA), DOT.

ACTION: Notice and request for comments.

SUMMARY: This notice announces that FMCSA intends to submit a request to the Office of Management and Budget (OMB) for renewed approval of the information collection described below. This information collection is needed to ensure that motor carriers and the States are complying with notification requirements for obtaining information about licensing, violations, convictions, and disqualifications within certain time periods as required by the Commercial Motor Vehicle Safety Act of 1986 (CMVSA), as amended. This notice is required by the Paperwork Reduction Act.

DATES: Your comments must be submitted by February 2, 2004.

ADDRESSES: Mail or hand deliver comments to the U.S. Department of Transportation, Dockets Management Facility, Room PL-401, 400 Seventh Street, SW., Washington, DC 20590, or submit electronically at http://dmses.dot.gov/submit. Be sure to include the docket number appearing in the heading of this document on your comment. All comments received will be available for examination and copying at the above address from 9 a.m. to 5 p.m., e.t., Monday through Friday, except Federal holidays. If you would like to be notified when your comment is received, you must include a self-addressed, stamped postcard or you may print the acknowledgment page that appears after submitting comments electronically.

FOR FURTHER INFORMATION CONTACT: Mr. Ronald Finn, (202) 366-0647, Office of Safety Programs, State Programs Division (MC-ESS), Federal Motor Carrier Safety Administration, 400 Seventh Street, SW., Washington, DC, 20590. Office hours are from 7:30 a.m. to 4 p.m., e.t., Monday through Friday, except Federal holidays.

SUPPLEMENTARY INFORMATION: Title: Commercial Driver Licensing and Test Standards.

OMB Number: 2126-0011.

Background: In 1986, Congress enacted the Commercial Motor Vehicle Safety Act (Public Law 99-570, Title XII, 100 Stat. 3207-170) among other things, to establish minimum standards for testing and licensing persons who want to operate a commercial motor vehicle (CMV) by weight or use category, and requiring drivers to have a single commercial driver's license (CDL) and driving history record.

Under 49 CFR 383.5, a CMV is defined as a motor vehicle or combination of motor vehicles which: (a) Has a gross combination weight rating of 11,794 or more kilograms (kg) (26,001 or more pounds (lbs) inclusive of a towed unit with a gross vehicle weight rating (GVWR) of more than 4,536 kg (10,000 lbs)); (b) has a GVWR of 11,794 or more kg (26,001 or more lbs); (c) is designed to transport 16 or more passengers, including the driver; or (d) is of any size and is used to transport hazardous materials as hazardous materials are defined in 49 CFR 383.5.

The CMVSA requires a driver to notify both their employer and the licensing official in the driver's State of licensure of all violations of any State or local laws relating to traffic control (except parking violations). A person whose CDL is suspended, revoked, or canceled by a State, or who is disqualified from operating a CMV for any period, also must notify their employer of such actions. A person applying for employment as a CMV driver also must notify prospective employers of their employment history as a CMV driver for the previous ten years.

Pursuant to 49 U.S.C. 31309, the Secretary of Transportation (Secretary) must maintain an information clearinghouse and depository of information about the issuance of a license, and identification and disqualification of CMV operators, in conjunction with 49 U.S.C. 31106. The Secretary may consult with the States in carrying out this section. States must certify that they are in compliance with the CDL program. If a State does not substantially comply with these requirements, the FMCSA may penalize the State until compliance is achieved. The information required to be collected by the States will be used to determine whether the States are in substantial compliance with these requirements.

This request for renewed approval includes additional burdens for recordkeeping requirements under 49 CFR 384.231(d) concerning retention and updating of driver records on the Commercial Driver's License Information System (CDLIS). These requirements also include the maintenance of such driver records and driver identification data on the CDLIS as the FMCSA finds are necessary to implement and enforce the disqualifications called for in 49 U.S.C. 384.215 through 384.219, and 384.221 through 384.224.

Respondents: Motor carriers, CMV drivers and State governments.

Estimated Total Annual Burden: 1,080,345 hours. The information collection is comprised of four components:

(1) Notification of convictions: Estimated number of annual responses = 3,776,667 (11.3 million CDL drivers/3 = 3,776,667). It takes approximately 10 minutes to notify a motor carrier concerning convictions. Each driver averages approximately 1 conviction every 3 years. The notification requirement has an estimated annual burden of 627,778 burden hours (11.3 million CDL drivers/3 × 10/60 = 627,778 hours);

(2) Employment history: Estimated annual turnover rate = 14%. There are an estimated 1,582,000 annual responses to this requirement (11.3 million CDL drivers × .14 annual turnover rate = 1,582,000). It takes approximately 15 minutes to complete this requirement. The employment history requirement has an estimated annual burden of 395,500 hours (1,582,000 annual responses × 15 min./60 = 395,500 hours);

(3) State compliance and certification: There are 51 responses to this requirement (50 States and the District of Columbia) and it takes approximately 32 hours to complete each response. The compliance and certification requirement has an estimated annual burden of 1,632 hours (51 responses × 32 hours = 1,632 hours); and

(4) CDLIS Recordkeeping: Fifty (50) States and the District of Columbia are required to enter data into CDLIS about operators of CMVs and to perform record checks before issuing, renewing or upgrading a CDL or allowing a CDL transfer. We estimate that the average amount of time for each CDLIS inquiry is 2 minutes. The total burden hours is 55,435 for these combined activities: 12,160 hours for all States to create a new driver; 4,023 hours for all States to change the State of record; 19,759 hours for all States to change data and 19,493 hours to enter citizenship information.

Public Comments Invited: We invite you to comment on any aspect of this information collection, including, but not limited to: (1) Whether the collection of information is necessary for the proper performance of the functions of the FMCSA, including whether the information is practical and useful; (2) the accuracy of the estimated burden; (3) ways to enhance the quality, usefulness, and clarity of the collected information; and (4) ways to minimize the collection burden without reducing the quality of the information collected.

Electronic Access and Filing: You may submit or retrieve comments online through the Docket Management System (DMS) at http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site.

You may also download an electronic copy of this document from the DOT Docket Management System on the Internet at http://dms.dot.gov/search.htm. Please include the docket number appearing in the heading of this document.

Authority: The Paperwork Reduction Act of 1995; 44 U.S.C. Chapter 35, as amended; and 49 CFR 1.73.

Warren E. Hoemann,
Deputy Administrator.

[FR Doc. 03-30104 Filed 12-2-03; 8:45 am]

BILLING CODE 4910-EX-P